DEPARTMENT OF HOMELAND SECURITY

Coast Guard

33 CFR Part 117

[Docket No. USCG-2012-0192]

Drawbridge Operation Regulation; Atlantic Intracoastal Waterway (AIWW), at Wrightsville Beach, NC; Cape Fear and Northeast Cape Fear River, at Wilmington, NC

AGENCY: Coast Guard, DHS.

ACTION: Notice of temporary deviation from regulations.

SUMMARY: The Commander, Coast Guard Fifth District, has issued a temporary deviation from the operating schedules that govern three North Carolina Department of Transportation (NCDOT) bridges: The S.R. 74 Bridge, across AIWW, mile 283.1 at Wrightsville Beach, NC; the Cape Fear Memorial Bridge across the Cape Fear River, mile 26.8; and the Isabel S. Holmes Bridge across the Northeast Cape Fear River, mile 1.0; both at Wilmington, NC. The deviation is necessary to accommodate the YMCA Tri Span 5K & 10K races. This deviation allows the bridges to remain in the closed position during the races.

DATES: This deviation is effective from 7 a.m. through 9 a.m. on Saturday, July 14, 2012.

ADDRESSES: Documents mentioned in this preamble as being available in the docket are part of docket USCG-2012-0192 and are available online by going to http://www.regulations.gov, inserting USCG-2012-0192 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Terrance Knowles, Coast Guard; telephone 757-398-6587, email Terrance.A.Knowles@uscg.mil. If you have questions on viewing the docket, call Renee V. Wright, Program Manager, Docket Operations, telephone 202-366-9826.

SUPPLEMENTARY INFORMATION: The Wilmington Family YMCA, on behalf of NCDOT, has requested a temporary deviation from the current operating schedules for the S.R. 74 Bridge, across AIWW, mile 283.1 at Wrightsville Beach, NC; the Cape Fear Memorial Bridge across the Cape Fear River, mile 26.8; and the Isabel S. Holmes Bridge across the Northeast Cape Fear River, mile 1.0; both at Wilmington, NC. The requested deviation is to accommodate the annual YMCA Tri Span 5K & 10K races scheduled for Saturday, July 14, 2012. To facilitate these events, the draw of the bridges will be maintained in the closed-to-navigation positions from 7 a.m. to 9 a.m.

The SR 74 Bridge is a double-leaf bascule drawbridge with a vertical clearance of 20 feet, above mean high water, in the closed position. The current operating schedule is set out in 33 CFR 117.821(a)(4). During the month of July, the bridge is required to open on signal, except that from 7 a.m. to 7 p.m., the draw need only open on the hour.

The Cape Fear Memorial Bridge is a vertical-lift drawbridge with a vertical clearance of 65 feet, above mean high water, in the closed position. The current operating schedule is set out in 33 CFR 117.823. During the month of July the bridge is required to open on signal, except that on the second Saturday of July of every year, the draw need not open 8 a.m. to 10 a.m.

The Isabel S. Holmes Bridge is a double-leaf bascule drawbridge with a vertical clearance of 40 feet, above mean high water, in the closed position. The current operating schedule is set out in 33 CFR 117.829. During the month of July the bridge is required to open on signal except that the draw will be closed to pleasure craft, from 6 a.m. to 6 p.m., every day, except at 10 a.m. and 2 p.m., when the draw will open for all waiting vessels; and the draw need not open, from 8 a.m. to 10 a.m., on the second Saturday of July of every year. Vessels that can pass under these bridges in the closed position may do so at any time. The bridges will be able to open for emergencies.

There are no alternate routes available to vessels transiting these waterways. These races have been an annual event; therefore local waterway users should be familiar with the closure. To ensure that waterway users are aware of the closure, the Coast Guard will issue a Local and Broadcast Notice to Mariners to allow mariners to schedule their transits accordingly. Most waterway traffic for these bridges consists of recreational boats with a few barges and tugs in the daytime.

In accordance with 33 CFR 117.35(e), the drawbridge must return to its regular operating schedule immediately at the end of the designated time period. This deviation from the operating regulations is authorized under 33 CFR 117.35.

Dated: June 7, 2012.
Waverly W. Gregory, Jr.,
Bridge Program Manager, Fifth Coast Guard District.

[FR Doc. 2012-14644 Filed 6-14-12; 8:45 am]

BILLING CODE 9110-04-P